DEPARTMENT OF COMMERCE

International Trade Administration

[A-570-900]

Diamond Sawblades and Parts Thereof From the People's Republic of China: Notice of Court Decision Not in Harmony With the Final Results of Review and Amended Final Results of the Antidumping Duty Administrative Review

AGENCY: Enforcement and Compliance, International Trade Administration, Department of Commerce.

SUMMARY: On October 21, 2015, the United States Court of International Trade (Court) sustained our final remand redetermination pertaining to the administrative review of the antidumping duty order on diamond sawblades and parts thereof from the People's Republic of China covering the period November 1, 2010, through October 31, 2011.¹ Consistent with the decision of the United States Court of Appeals for the Federal Circuit (CAFC) in Timken Co. v. United States, 893 F.2d 337 (Fed. Cir. 1990) (Timken), as clarified by Diamond Sawblades Mfrs. Coalition v. United States, 626 F.3d 1374 (Fed. Cir. 2010) (Diamond Sawblades), the Department of Commerce (the Department) is notifying the public that the Court's final judgment in this case is not in harmony with the AR2 Final Results ² and that the Department is amending the AR2 Final Results with respect to the ATM Single Entity ³ and the PRC-wide entity.

¹ See Final Remand Redetermination pursuant to Diamond Sawblades Manufacturers Coalition v. United States, Court No. 13-00241, slip op. 14-112 (Ct. Int'l Trade Sept. 23, 2014), dated May 18, 2015, and available at http://enforcement.trade.gov/remands/14-112.pdf (AR2 Remand), aff'd, Diamond Sawblades Manufacturers' Coalition v. United States, Court No. 13-00241, slip op. 15-116 (Ct. Int'l Trade Oct. 21, 2015).

² See Diamond Sawblades and Parts Thereof From the People's Republic of China: Final Results of Antidumping Duty Administrative Review; 2010-2011, 78 FR 36166 (June 17, 2013), as amended in Diamond Sawblades and Parts Thereof From the People's Republic of China: Amended Final Results of Antidumping Duty Administrative Review; 2010-2011, 78 FR 42930 (July 18, 2013) (collectively, AR2 Final Results).

³ The ATM Single Entity includes Advanced Technology & Materials Co., Ltd., Beijing Gang Yan Diamond Products Co., HXF Saw Co., Ltd., AT&M International Trading Co., Ltd., and Cliff International Ltd. See Diamond Sawblades and Parts Thereof From the People's Republic of China: Final Results of Antidumping Duty Administrative Review; 2009-2010, 78 FR 11143, 11144-45 n.9 (February 15, 2013), and Diamond Sawblades and Parts Thereof From the People's Republic of China: Preliminary Results of Antidumping Duty Administrative Review: 2010-2011, 77 FR 73417, 73418 (December 10, 2012), unchanged in AR2 Final Results.

DATES: Effective Date: October 31, 2015.

FOR FURTHER INFORMATION CONTACT: Yang Jin Chun or Minoo Hatten, AD/CVD Operations, Office I, Enforcement and Compliance, International Trade Administration, U.S. Department of Commerce, 14th Street and Constitution Avenue NW, Washington, DC 20230; telephone (202) 482-5760 or (202) 482-1690, respectively.

SUPPLEMENTARY INFORMATION:

Background

On June 17, 2013, as amended on July 18, 2013, the Department published the AR2 Final Results. The Diamond Sawblades Manufacturers' Coalition (DSMC) challenged certain aspects of the Department's AR2 Final Results. On September 23, 2014, the Court remanded the AR2 Final Results to the Department to: (1) Reconsider the ATM Single Entity's separate rate status; (2) explain where in the statute or other authority the Department finds the non-ministerial discretion not to determine if there is a pattern of differing export price or constructed export price for the purposes of using an alternate comparison methodology, regardless of whether an allegation is raised to that effect; and (3) explain how the methodology for valuing Weihai Xiangguang Mechanical Industrial Co., Ltd.'s (Weihai) steel cores is consistent with the first review, why Weihai's NME experience better reflects Weihai's experience of purchasing cores even though it is located in an NME country, and provide a full explanation of its chosen methodology.⁴ On remand, the Department (1) denied the ATM Single Entity a separate rate and revised the PRC-wide rate; (2) explained that the Department's practice is to require targeted dumping allegations before the preliminary results and, because DSMC filed the targeted dumping allegation after the preliminary results, the targeted dumping allegation in this review was untimely; and (3) explained the Department's methodology for valuing Weihai's steel cores.⁵ On October 21, 2015, the Court upheld our final remand redetermination for this review in its entirety.⁶

⁴ See Diamond Sawblades Manufacturers Coalition v. United States, Court No. 13-00241, slip op. 14-112 (Ct. Int'l Trade Sept. 23, 2014).

⁵ See AR2 Remand.

⁶ See Diamond Sawblades Manufacturers' Coalition v. United States, Court No. 13-00241, slip op. 15-116 (Ct. Int'l Trade Oct. 21, 2015).

Timken Notice

In its decision in Timken, as clarified by Diamond Sawblades, the CAFC held that, pursuant to section 516A(e) of the Tariff Act of 1930, as amended (the Act), the Department must publish a notice of a court decision that is not “in harmony” with a Department determination and must suspend liquidation of entries pending a “conclusive” court decision. The Court's final judgment affirming the final remand redetermination constitutes the Court's final decision which is not in harmony with the AR2 Final Results. This notice is published in fulfillment of the publication requirements of Timken. Accordingly, the Department will continue the suspension of liquidation of the subject merchandise pending a final and conclusive court decision.

Amended Final Results of Review

Because there is now a final court decision, the Department is amending the AR2 Final Results with respect to the PRC-wide entity, which includes the ATM Single Entity, as follows:

Exporter | Weighted- average dumping margin (percent)
PRC-Wide Entity (which includes the ATM Single Entity) | 82.05

In the event the Court's ruling is upheld by a final and conclusive court decision, the Department will instruct the U.S. Customs and Border Protection to assess antidumping duties on unliquidated entries of subject merchandise based on the revised rate the Department determined and listed above.

Cash Deposit Requirements

Since the AR2 Remand, the Department has established a new cash deposit rate for the PRC-wide entity, which includes the ATM Single Entity.⁷ Therefore, the cash deposit rate for the PRC-wide entity does not need to be updated as a result of these amended final results.

⁷ See Diamond Sawblades and Parts Thereof From the People's Republic of China; Final Results of Antidumping Duty Administrative Review; 2012-2013, 80 FR 32344 (June 8, 2015).

Notification to Interested Parties

This notice is issued and published in accordance with sections 516A(e)(1), 751(a)(1), and 777(i)(1) of the Act.

Dated: January 12, 2016.
Paul Piquado,
Assistant Secretary for Enforcement and Compliance.

[FR Doc. 2016-00917 Filed 1-15-16; 8:45 am]

BILLING CODE 3510-DS-P